FEDERAL COMMUNICATIONS COMMISSION

47 CFR Part 73

[DA 03-4122; MB Docket No. 02-251,RM-10315; MB Docket No. 02-254, RM-10550; MB Docket No. 02-370, RM-10612]

Radio Broadcasting Services; Big Lake, Muleshoe and Turkey, TX

AGENCY: Federal Communications Commission.

ACTION: Final rule.

SUMMARY: This document grants three proposals that allot new FM channels to Muleshoe, Texas; Big Lake, Texas; and Turkey, Texas. The Audio Division allots, at the request of Linda Crawford, Channel 227C1 at Muleshoe, Texas, as the community's second local FM service. See 67 FR 57203, September 9, 2002. Channel 227C1 can be allotted to Muleshoe, Texas, in compliance with the Commission's minimum distance separation requirements with a site restriction of 35.8 km (22.3 miles) southwest of Muleshoe. The coordinates for Channel 227C1 at Muleshoe, Texas, are 34-02-03 North Latitude and 103-02-08 West Longitude. A filing window for Channel 227C1 at Muleshoe, Texas, will not be opened at this time. Instead, the issue of opening this allotment for auction will be addressed by the Commission in a subsequent Order. See SUPPLEMENTARY INFORMATION infra.

DATES: Effective March 1, 2004.

FOR FURTHER INFORMATION CONTACT: Deborah Dupont, Media Bureau, (202) 418-2180.

SUPPLEMENTARY INFORMATION: This is a synopsis of the Commission's Report and Order, MB Docket Nos. 02-251, 02-254, and 02-370, adopted December 31, 2003, and released January 16, 2004. The full text of this Commission decision is available for inspection and copying during normal business hours in the FCC Information Center, Portals II, 445 12th Street SW., Room CY-A257, Washington, DC 20554. The complete text of this decision may also be purchased from the Commission's duplicating contractor, Qualex International, Portals II, 445 12th Street, SW., Room CY-B402, Washington, DC 20554, (202) 863-2893, facsimile (202) 863-2898, or via e-mail qualexint@aol.com.

The Audio Division further allots, at the request of Linda Crawford, Channel 296C2 at Big Lake, Texas, as the community's fourth local FM service. See 67 FR 57203, September 9, 2002. Channel 296C2 can be allotted to Big Lake, Texas, in compliance with the Commission's minimum distance separation requirements with a site restriction of 26.9 km (16.7 miles) south of Big Lake. The coordinates for Channel 296C2 at Big Lake, Texas, are 30-57-18 North Latitude and 101-23-48 West Longitude. A filing window for Channel 296C2 at Big Lake, Texas, will not be opened at this time. Instead, the issue of opening this allotment for auction will be addressed by the Commission in a subsequent Order.

The Audio Division further allots, at the request of Linda Crawford, Channel 269A at Turkey, Texas, as the community's second local FM service. See 67 FR 78402, December 24, 2002. Channel 269A can be allotted to Turkey, Texas, in compliance with the Commission's minimum distance separation requirements with a site restriction of 14.5 km (9.0 miles) southwest of Turkey. The coordinates for Channel 269A at Turkey, Texas, are 34-17-32 North Latitude and 100-59-52 West Longitude. A filing window for Channel 269A at Turkey, Texas, will not be opened at this time. Instead, the issue of opening this allotment for auction will be addressed by the Commission in a subsequent Order.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Texas, is amended by adding Channel 227C1 at Muleshoe, Channel 296C2 at Big Lake, and Channel 269A at Turkey.

Federal Communications Commission.
John A. Karousos,
Assistant Chief, Audio Division, Media Bureau.

[FR Doc. 04-2837 Filed 2-9-04; 8:45 am]

BILLING CODE 6712-01-P